ENVIRONMENTAL PROTECTION AGENCY

[EPA-HQ-OW-2014-0359; FRL-9986-56-OEI]

Information Collection Request Submitted to OMB for Review and Approval; Comment Request; Underground Injection Control Program

AGENCY: Environmental Protection Agency (EPA).

ACTION: Notice.

SUMMARY: The Environmental Protection Agency (EPA) has submitted an information collection request (ICR), Underground Injection Control Program (EPA ICR No. 0370.26, OMB Control No. 2040-0042) to the Office of Management and Budget (OMB) for review and approval in accordance with the Paperwork Reduction Act. This is a proposed renewal of the ICR, which is currently approved through December 31, 2018. The EPA previously requested public comments via the Federal Register on June 6, 2018, during a 60-day comment period. This notice allows for an additional 30 days for public comments. A fuller description of the ICR is given below, including its estimated burden and cost to the public. An agency may not conduct or sponsor and a person is not required to respond to a collection of information unless it displays a currently valid OMB control number.

DATES: Comments may be submitted on or before January 22, 2019.

ADDRESSES: Submit your comments, referencing Docket ID Number EPA-HQ-OW-2014-0359, to (1) the EPA: Online using www.regulations.gov (our preferred method), by email to OW-Docket@epa.gov, or by mail to: EPA Docket Center, Environmental Protection Agency, Mail Code 28221T, 1200 Pennsylvania Ave. NW, Washington, DC 20460, and (2) OMB: via email to oira_submission@omb.eop.gov. Address comments to OMB Desk Officer for the EPA.

The EPA's policy is that all comments received will be included in the public docket without change including any personal information provided, unless the comment includes profanity, threats, information claimed to be Confidential Business Information (CBI) or other information whose disclosure is restricted by statute.

FOR FURTHER INFORMATION CONTACT: Kyle Carey, Office of Ground Water and Drinking Water/Drinking Water Protection Division, 4606M, Environmental Protection Agency, 1200 Pennsylvania Ave. NW, Washington, DC 20460; telephone number: (202) 564-2322; fax number: (202) 564-3756; email address: carey.kyle@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC 20004. The telephone number for the Docket Center is 202-566-1744. For additional information about the EPA's public docket, visit http://www.epa.gov/dockets.

Abstract: The Underground Injection Control (UIC) Program, under authority of the Safe Drinking Water Act, established a federal-state regulatory system to protect underground sources of drinking water (USDWs) by ensuring that they are not endangered by the underground injection of fluids. Injected fluids include hazardous waste, oil field brines or produced water, mineral processing fluids, various types of industrial fluids, automotive, sanitary and other wastes, and carbon dioxide injected for geologic sequestration. Owners or operators of injection wells must obtain permits, conduct environmental monitoring, maintain records, and report results to the EPA or the state agency with UIC primary enforcement responsibility (primacy). States must report to the EPA on permittee compliance and related information. This required information is reported using the EPA's standardized forms (or state equivalents) and annual reports; the governing regulations are codified in the Code of Federal Regulations (CFR) at 40 CFR parts 144 through 148. The data are used by UIC authorities to ensure the protection of USDWs.

Form Numbers: 7520-1, 7520-2A, 7520-2B, 7520-3, 7520-4, 7520-6, 7520-7, 7520-8, 7520-11, 7520-16, 7520-17, 7520-18, and 7520-19.

Respondents/affected entities: Owners or operators of underground injection wells and state UIC Program primacy agencies.

Respondent's obligation to respond: Mandatory (40 CFR parts 144 through 148).

Estimated number of respondents: 40,168 (total).

Frequency of response: Annual, semi-annual, and quarterly.

Total estimated burden: 1,292,260 hours (per year). Burden is defined at 5 CFR 1320.03(b).

Total estimated cost: $227,307,259 (per year), includes $168,345,558 annualized capital or operation and maintenance costs.

Changes in the Estimates: There is a decrease of 421,786 hours in the total estimated respondent burden compared with the ICR currently approved by OMB. This decrease is due to changes in the injection well inventory, primarily a significant reduction in the number of Class II and Class VI permit applications expected to be prepared and reviewed; a decrease in the number of Class V inventory forms that are anticipated to be submitted; and a decrease in the number of Class I and Class VI well operators that the EPA estimates will be submitting information. Furthermore, the EPA has revised the operator reporting forms, which has resulted in additional burden reductions for operators of all well classes. These decreases are partially offset by an increase in burden due to anticipated changes in the number of Class III permit applications.

Courtney Kerwin,
Director, Regulatory Support Division.

[FR Doc. 2018-27581 Filed 12-20-18; 8:45 am]

BILLING CODE 6560-50-P